NATIONAL FOUNDATION ON THE ARTS AND THE HUMANITIES

National Endowment for the Arts; Arts Advisory Panel

Pursuant to Section 10(a)(2) of the Federal Advisory Committee Act (Pub. L. 92-463), as amended, notice is hereby given that six meetings of the Arts Advisory Panel to the National Council on the Arts will be held at the Nancy Hanks Center, 1100 Pennsylvania Avenue, NW., Washington, DC, 20506 as follows (ending times are approximate):

State & Regional (Regional Arts Organization Partnership Agreements: Mid America Arts Alliance, New England Foundation for the Arts): January 14, 2009 by teleconference. This meeting, from 3 p.m. to 4:30 p.m., will be open.

State & Regional (Regional Arts Organization Partnership Agreements: Mid-Atlantic Arts Foundation, Southern Arts Federation): January 22, 2009 by teleconference. This meeting, from 3 p.m. to 4:30 p.m., will be open.

State & Regional (National Services): January 21, 2009 by teleconference. This meeting, from 3 p.m. to 4 p.m., will be open.

State & Regional (State Partnership Agreements): January 28-29, 2009 in Room 716. This meeting, from 9:30 a.m. to 6 p.m. on January 28th, and from 9:30 a.m. to 4 p.m. on January 29th, will be open.

State & Regional (State Partnership Agreements/Folk Infrastructure): January 30, 2009 in Room 716. This meeting, from 9 a.m. to 6:30 p.m. will be open.

Media Arts (application review): January 29-30, 2009 in Room 730. This meeting, from 9 a.m. to 6 p.m. on January 29th, and from 9 a.m. to 4:30 p.m. on January 30th, will be closed.

The closed portions of meetings are for the purpose of Panel review, discussion, evaluation, and recommendations on financial assistance under the National Foundation on the Arts and the Humanities Act of 1965, as amended, including information given in confidence to the agency. In accordance with the determination of the Chairman of February 28, 2008, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202-682-5532, TDY-TDD 202-682-5496, at least seven (7) days prior to the meeting.

Further information with reference to these meetings can be obtained from Ms. Kathy Plowitz-Worden, Office of Guidelines & Panel Operations, National Endowment for the Arts, Washington, DC, 20506, or call 202-682-5691.

Dated: December 12, 2008.
Kathy Plowitz-Worden,
Panel Coordinator, Panel Operations, National Endowment for the Arts.

[FR Doc. E8-29928 Filed 12-17-08; 8:45 am]

BILLING CODE 7537-01-P